DEPARTMENT OF JUSTICE

Notice of Lodging of Consent Decree Under the Comprehensive Environmental Response, Compensation and Liability Act

Notice is hereby given that on September 19, 2003, a proposed Consent Decree in United States of America, The State of New Mexico, and The New Mexico Office of Natural Resources Trustee v. The Burlington Northern and Santa Fe Railway Company, Civil Action No. 03-1105 MV KBM, was lodged with the United States District Court for the District of New Mexico.

In this action the United States, on behalf of the United States Department of the Interior (“DOI”), the United States Fish and Wildlife Service, and the Attorney General of the State of New Mexico, on its own behalf and on behalf of The State of New Mexico and The New Mexico Office of Natural Resources Trustee (“NMONRT”) sought damages from The Burlington Northern and Santa Fe Railway Company for injury to, destruction and loss of natural resources, under Section 107(a) of the Comprehensive Environmental Response, Compensation and Liability Act of 1980, 42 U.S.C. 9607(a), resulting from the release of hazardous substances from the AT & SF (Clovis) New Mexico Superfund Site, located in Clovis, Curry County, New Mexico. The Complaint alleges that hazardous substances, including polycyclic aromatic hydrocarbons, phenol compounds and metals, were released from a railway switching yard owned and operated by the Defendant and its predecessor, to a former playa lake known as Santa Fe Lake, resulting in the loss of habitat for fish and wildlife, including migratory birds and aquatic dependent biota. The Consent Decree provides for BNSF to pay a total of $489,000.00 to resolve the claims alleged in the Complaint. Of this amount, $459,000 will be placed in a Court Registry trust account for use by DOI and NMONRT in planing and implementing a habitat acquisition and enhancement project, $20,500 and $9,500 shall be paid to DOI and NMONRT respectively, to reimburse DOI and NMONRT for costs incurred to assess the alleged injury to, destruction and loss of natural resources.

The Department of Justice will receive for a period of thirty (30) days from the date of this publication comments relating to the Consent Decree. Comments should be addressed to the Assistant Attorney General, Environment and Natural Resources Division, P.O. Box 7611, U.S. Department of Justice, Washington, DC 20044-7611, and should refer to United States, et al. v. The Burlington Northern and Santa Fe Railway Company, D.J. Ref. 90-11-1-07321.

The Consent Decree may be examined at the Office of the United States Attorney, District of New Mexico, 201 Third St., NW., Ste. 900, Albuquerque, NM 87102. During the public comment period, the Consent Decree may also be examined on the following Department of Justice Web site, http://www.usdoj.gov/enrd/open.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $4.50 (25 cents per page reproduction cost) payable to the U.S. Treasury.

Thomas A. Mariani, Jr.,
Assistant Chief, Environmental Enforcement Section, Environment and Natural Resources Division.

[FR Doc. 03-27254 Filed 10-28-03; 8:45 am]

BILLING CODE 4410-15-M